SMALL BUSINESS ADMINISTRATION

13 CFR Part 121

RIN 3245-AG47

Small Business Size Standards; Adoption of 2012 North American Industry Classification System for Size Standards; Correction

AGENCY: U.S. Small Business Administration.

ACTION: Interim final rule; correction.

SUMMARY: The U.S. Small Business Administration (SBA) is correcting an interim final rule that appeared in the Federal Register on August 20, 2012 (75 FR 49991), effective October 1, 2012. The interim rule amended SBA's Small Business Size Regulations by incorporating the Office of Management and Budget's 2012 North American Industry Classification System update (NAICS 2012) into its table of small business size standards. The NAICS 2012 revised the definitions of some NAICS industries by deleting some and merging others with the new or other revised industries. This action corrects the small business size standard for NAICS 334419, Other Electronic Component Manufacturing, from 500 employees to 750 employees, effective immediately.

DATES: Effective December 2, 2014.

FOR FURTHER INFORMATION CONTACT: Khem Sharma, Chief, Office of Size Standards, U.S. Small Business Administration, 409 Third Street SW., Washington, DC 20416.

SUPPLEMENTARY INFORMATION: The NAICS 2012 revised the NAICS 2007 definition for NAICS 334419, Other Electronic Component Manufacturing, by merging with it NAICS 334411, Electron Tube Manufacturing, but retained the existing industry title. NAICS 334419 had a size standard of 500 employees, while NAICS 334411 had 750 employees. In accordance with SBA's policy of adopting the highest size standard among the industries merged, on page 50001 of the August 20, 2012 interim final rule (75 FR 49991), SBA indicated in Table 2 “NAICS 2012 Codes Matched to NAICS 2007 Codes and Size Standards” that it is adopting 750 employees as the small business size standard for the revised NAICS 334419. To amend the table in § 121.201, “Small Business Size Standards by NAICS Industry”, on page 50008, the rule states “ttt. Remove the entries for 334411, 334414, and 334415”. However, the rule did not revise the size standard for NAICS 344119 to 750 employees. Therefore, the revised table, “Small Business Size Standards by NAICS Industry” shows the old, incorrect size standard of 500 employees for NAICS 334419.

Need For Correction

The purpose of this action is to correct the table “Small Business Size Standards by NAICS Industry” (13 CFR 121.201) by revising the size standard for NAICS 334419, Other Electronic Component Manufacturing, from 500 employees to 750 employees.

List of Subjects in 13 CFR Part 121

Administrative practice and procedure, Government procurement, Government property, Grant programs—business, Individuals with disabilities, Loan programs—business, Reporting and recordkeeping requirements, Small businesses.

For the reasons set forth in the preamble, SBA amends 13 CFR part 121 by making the following correcting amendment:

PART 121—SMALL BUSINESS SIZE REGULATIONS

1. The authority citation for part 121 continues to read as follows:

Authority: 15 U.S.C. 632, 634(b)(6), 636(b), 662, 694a(9).

2. In § 121.201, revise the entry “334419” in the table, “Small Business Size Standards by NAICS Industry” to read as follows:

§ 121.201 What size standards has SBA identified by North American Industry Classification System codes?

* * * * *

Small Business Size Standards by NAICS Industry
NAICS codes | NAICS U.S. industry title | Size standards in millions of dollars | Size standards in number of employees
* * * * * * *
334419 | Other Electronic Component Manufacturing |  | 750
* * * * * * *

Dated: November 18, 2014.
Kenneth Dodds,
Director for Office of Policy, Planning and Liaison.

[FR Doc. 2014-28329 Filed 12-1-14; 8:45 am]

BILLING CODE 8025-01-P